DEPARTMENT OF HOMELAND SECURITY

Federal Emergency Management Agency

44 CFR Part 67

[Docket ID FEMA-2008-0020; Internal Agency Docket No. FEMA-B-1056]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before September 1, 2009.

ADDRESSES: The corresponding preliminary Flood Insurance Rate Map (FIRM) for the proposed BFEs for each community are available for inspection at the community's map repository. The respective addresses are listed in the table below.

You may submit comments, identified by Docket No. FEMA-B-1056, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Glenn County, California, and Incorporated Areas
Butte Creek | Approximately 2,270 feet downstream of Aguas Frias Road | None | +105 | Unincorporated Areas of Glenn County.
| Just upstream of Aguas Frias Road | None | +108 |
Butte Creek (outside of Levee) | Approximately 3,230 feet downstream of Aguas Frias Road | None | +97 | Unincorporated Areas of Glenn County.
| Just upstream of Aguas Frias Road | None | +97 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Glenn County
Maps are available for inspection at 777 North Colusa Street, Willows, CA 95988.
San Luis Obispo County, California, and Incorporated Areas
Santa Maria River | Approximately 0.9 mile downstream of Cabrillo Highway | None | +70 | Unincorporated Areas of San Luis Obispo County.
| At the confluence with the Cuyama River | None | +355 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of San Luis Obispo County
Maps are available for inspection at the San Luis Obispo County Government Center, 976 Osos Street, Room 207, San Luis Obispo, CA 93401.
Santa Barbara County, California, and Incorporated Areas
Santa Maria River | Approximately 400 feet upstream of Pioneer Street | None | +70 | City of Guadalupe, City of Santa Maria, Unincorporated Areas of Santa Barbara County.
| Approximately 450 feet downstream of Santa Maria Mesa Road | None | +367 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Guadalupe
Maps are available for inspection at Guadalupe City Hall, 918 Obispo Street, Guadalupe, CA 93434.
City of Santa Maria
Maps are available for inspection at City of Santa Maria Public Works Department, 110 South Pine Street, Santa Maria, CA 93458.
Unincorporated Areas of Santa Barbara County
Maps are available for inspection at Santa Barbara County Public Works Department, Water Resources Division, 123 East Anapamu Street, Santa Barbara, CA 93101.
Henderson County, Illinois, and Incorporated Areas
Mississippi River | Just downstream of Main Street in Lomax, IL extended (approximately 395 miles upstream of the confluence with the Ohio River) | +530 | +531 | Unincorporated Areas of Henderson County, Village of Gulfport, Village of Lomax.
| Approximately 400 feet upstream of 1100N extended (approximately 403 miles upstream of the confluence with the Ohio River) | +533 | +534 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Henderson County
Maps are available for inspection at the Henderson County Courthouse, 307 Warren Street, Oquawka, IL 61469.
Village of Gulfport
Maps are available for inspection at the Henderson County Courthouse, 307 Warren Street, Oquawka, IL 61469.
Village of Lomax
Maps are available for inspection at the Lomax Village Hall, 861 Atchison Avenue, Lomax, IL 61454.
Greene County, Missouri, and Incorporated Areas
Galloway Creek | Just downstream of US Highway 60 Access Ramp | +1155 | +1154 | City of Springfield.
| Just upstream of East Seminole Street | None | +1301 |
Jordan Creek | Just downstream of West Bennett Street | +1222 | +1223 | City of Springfield.
| Just upstream of North Washington Avenue | +1274 | +1277
Mount Pleasant Branch | Approximately 65 feet upstream from Highway 160 | +1183 | +1186 | City of Willard.
North Branch Jordan Creek | Just downstream of East Brower Street | +1282 | +1281 | City of Springfield.
| Just upstream of North Yates Avenue | None | +1356
North Fork Mount Pleasant Branch | Just downstream of Highway 160 | +1152 | +1157 | City of Willard.
| Just upstream of Highway 160 | +1153 | +1160
South Branch Jordan Creek | Just downstream of North Sherman Avenue | +1276 | +1283 | City of Springfield.
| Just upstream of North Patterson Avenue | +1329 | +1330
South Creek | Just downstream of US Highway 160/County Highway FF | +1159 | +1162 | City of Springfield, Unincorporated Areas of Greene County.
| Just upstream of South Kickapoo Avenue | +1305 | +1307
Ward Branch | Just downstream of South Farm Road 139/County Road 139 | +1113 | +1114 | City of Springfield, Unincorporated Areas of Greene County.
| Just upstream of East Independence Street | None | +1251
Yarbrough Creek | Just downstream of West Lakewood Street | None | +1187 | City of Springfield, Unincorporated Areas of Greene County.
| Just upstream of South Campbell Avenue/Highway 100 | +1233 | +1212
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Springfield
Maps are available for inspection at 840 Boonville Avenue, Springfield, MO 65801.
City of Willard
Maps are available for inspection at 224 West Jackson Street, Willard, MO 65781.
Unincorporated Areas of Greene County
Maps are available for inspection at 940 Boonville Avenue, Springfield, MO 65802.
Trempealeau County, Wisconsin, and Incorporated Areas
Beaver Creek | Approximately 330 feet downstream of State Highway 93 | None | +680 | Unincorporated Areas of Trempealeau County.
| Approximately 400 feet upstream of State Highway 93 | None | +685
Buffalo River | Approximately 575 feet upstream of Chimney Rock Road | None | +855 | City of Osseo, Unincorporated Areas of Trempealeau County, Village of Eleva, Village of Strum.
| Approximately 4,200 feet upstream of County Highway R | None | +991
Lake Marinuka (Beaver Creek) | Approximately 1,950 feet upstream of Main Street | None | +702 | Unincorporated Areas of Trempealeau County.
| Approximately 3,400 feet upstream of Main Street | None | +702
Mississippi River | At the corporate limits of Trempealeau County with LaCrosse County | None | +651 | Village of Trempealeau, Unincorporated Areas of Trempealeau County.
| At the corporate limits of Trempealeau County with Buffalo County | +658 | +659 | Unincorporated Areas of Trempealeau County.
North Fork Beaver Creek | Approximately 1,500 feet downstream of Bridge Street | None | +765 | Unincorporated Areas of Trempealeau County.
| Approximately 1,330 feet downstream of Bridge Street | None | +766
Rod and Gun Club Tributary | Approximately 560 feet downstream of the confluence with Trempealeau River | None | +950 | City of Osseo.
| Just downstream of 5th Street | None | +951
South Fork Beaver Creek | Approximately 1,860 feet downstream of South Main Street | None | +765 | Unincorporated Areas of Trempealeau County.
| Approximately 420 feet upstream of South Main Street | None | +767
South Fork Buffalo River | Approximately 700 feet downstream of County Highway B | None | +961 | Unincorporated Areas of Trempealeau County.
| Approximately 625 feet downstream of County Highway B | None | +961
Trempealeau River | Approximately 3.1 miles downstream of West Main Street | None | +717 | Unincorporated Areas of Trempealeau County, City of Arcadia, City of Blair, City of Independence, City of Whitehall.
| Approximately 4.15 miles upstream of Spring Street | None | +861
Turton Creek | Approximately 100 feet upstream of Main Street | +729 | +730 | City of Arcadia.
| Approximately 1,175 feet downstream of Oak Street | +733 | +734
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Arcadia
Maps are available for inspection at City Hall, 203 West Main Street, Arcadia, WI 54612.
City of Blair
Maps are available for inspection at City Hall, 122 South Urberg Avenue, Blair, WI 54616.
City of Independence
Maps are available for inspection at City Hall, 23688 Adams Street, Independence, WI 54747.
City of Osseo
Maps are available for inspection at City Hall, 13712 Eighth Street, Osseo, WI 54758.
City of Whitehall
Maps are available for inspection at City Hall, 18620 Hobson Street, Whitehall, WI 54773.
Unincorporated Areas of Trempealeau County
Maps are available for inspection at the Trempealeau County Courthouse, 36245 Main Street, Whitehall, WI 54773.
Village of Eleva
Maps are available for inspection at the Village Hall, 25952 East Mondovi Street, Eleva, WI 54738.
Village of Strum
Maps are available for inspection at the Village Hall, 202 South 5th Avenue, Strum, WI 54770.
Village of Trempealeau
Maps are available for inspection at the Village Hall, 24455 3rd Street, Trempealeau, WI 54661.

(Catalog of Federal Domestic Assistance No. 97.022, “Flood Insurance.”)

Dated: May 22, 2009.
Deborah S. Ingram,
Acting Deputy Assistant Administrator for Mitigation, Mitigation Directorate, Department of Homeland Security, Federal Emergency Management Agency.

[FR Doc. E9-12848 Filed 6-2-09; 8:45 am]

BILLING CODE 9110-12-P